FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
Transactions Granted Early Termination—10/25/2005
20060011 | Lafarge S.A. | Hale D. Ritchie | Application Systems Technology, Inc., Ark River Sand, Inc., Ark River Sand of Oklahoma, Inc., Hesston Ready Mix, Inc., R-Con Corporation, Ritchie Companies, Inc., Ritchie Concrete Paving, Inc., Ritchie Corporation, Ritchie Paving & Construction, Inc., Ritchie Paving, Inc., Ritchie Paving of Oklahoma, Inc., Ritchie Sand, Inc., Tarp Bow Solutions, Inc.
20060021 | CCMG Holdings, Inc. | Ford Motor Company | The Hertz Corporation
20060029 | Plum Creek Timber Company, Inc. | Maple Timber Acquisition LLC | Escanaba Timber LLC
20060032 | The Lightyear Fund, L.P. | Code Hennessy & Simmons IV LP | FTT Holdings, Inc.
20060035 | Wolseley plc | Harry Jay Seigle & Susan Gilbert Seigle | Michael Nicholas Carpentry, LLC, Seigle's, Inc.
20060052 | Hushang Ansary | Stewart & Stevenson Services, Inc. | Sierra Detroit Diesel Allison, Inc., S&S Trust, Stewart & Stevenson International, Inc., Stewart & Stevenson Petroleum Services, Inc.
20060064 | Bruckmann, Rosser, Sherrill & Co. II, L.P. | Richard Teasta | EZ Lube, Inc.
20060065 | Bruckmann, Rosser, Sherrill & Co. II, L.P. | Michael Dobson | EZ Lube, Inc.
20060066 | John B. Hess | Amerada Hess Corporation | Amerada Hess Corporation.
Transactions Granted Early Termination—10/26/2005
20060008 | WLR Recovery Fund III, L.P. | Malcolm I. Glazer | Safety Component International, Inc.
20060012 | Lafarge S.A. | H.T. Ritchie II | Application Systems Technology, Inc., Ark River Sand, Inc., Ark River Sand of Oklahoma, Inc., Hesston Ready Mix, Inc., R-Con Corporation, Ritchie Companies, Inc., Ritchie Concrete Paving, Inc., Ritchie Corporation, Ritchie Paving & Construction, Inc., Ritchie Paving, Inc., Ritchie Paving of Oklahoma, Inc., Ritchie Sand, Inc., Tarp Bow Solutions, Inc.
20060024 | AMN Healthcare Services, Inc. | Joseph E. Hawkins | The MHA Group, Inc.
20060057 | TCV IV, L.P. | Redback Networks, Inc. | Redback Networks, Inc.
Transactions Granted Early Termination—10/27/2005
20060004 | Odyssey Investment Partners Fund III, L.P | Residuary Trust under the Will of Charles E. Bowers, Jr. | The Fibre-Metal Products Company.
20060022 | DAVA Pharmaceuticals, Inc. | PLIVA d.d. | Odyssey Pharmaceuticals, Inc.
20060054 | Chesapeake Energy Corporation | Morgan Stanley Dean Witter Capital Partners IV, L.P. | Columbia Energy Resources, LLC.
Transactions Granted Early Termination—10/28/2005
20051697 | Millard Drexler | J. Crew Group, Inc. | J. Crew Group, Inc.
20060055 | Code Hennessy & Simmons IV LP | Sherrill S. Deputy Trust | The Godfrey Conveyor Company, Inc.
20060061 | Hewlett-Packard Company | Peregrine Systems, Inc. | Peregrine Systems, Inc.
20060073 | Babcock & Brown Wind Partners Limited | Babcock & Brown Limited | Babcock & Brown Wind Partners—U.S. LLC, BBPOP Wind Investment 3 LLC.
20060079 | TA IX L.P. | Intuit Inc. | Blue Ocean Software, Inc.
20060089 | TANDBERG Television ASA | GoldPocket Interactive, Inc. | GoldPocket Interactive, Inc.
20060092 | Barr Pharmaceuticals, Inc. | Copper 38OT LLC | Cooper 38OT LLC.
20060097 | Comverse Technology, Inc. | CSG Systems International, Inc. | CSG Americas Holdings, Inc., CSG Software, Inc., CSG Technology Limited.
Transactions Granted Early Termination—10/31/2005
20051548 | The Geo Group, Inc. | Correctional Services Corporation | Correctional Services Corporation.
20060018 | Timothy R. Barakett | Phelps Dodge Corporation | Phelps Dodge Corporation.
20060060 | ArcLight Energy Partners Fund II, L.P. | Haddington/Chase Energy Partners (WHP) LP | Lodi Holdings, L.L.C.
20060067 | ArcLight Energy Partners Fund II, L.P. | ArcLight Energy Parnters Fund I, L.P. | Lodi Holdings, L.L.C.
20060100 | China National Chemical Corporation | CVC European Equity Partners II L.P. | Drakkar Holdings, S.A.
20060101 | Blackstone Capital Partners IV L.P. | Team Health Holdings, L.L.C. | Team Health Holdings, L.L.C.
Transactions Granted Early Termination—11/01/2005
20060023 | Quad-C Partners VI, L.P. | Sea Gull Holdings, Inc. | Seagull Lighting Products, LLC, Woodco, LLC.
20060094 | Bain Capital Fund VIII, L.P. | CRC Health Group, Inc. | CRC Health Group, Inc.
20060098 | GGC Investment Fund II, L.P. | Appleseed's Holdings, Inc. | Appleseed's Holdings, Inc.
Transactions Granted Early Termination—11/02/2005
20050520 | Johnson & Johnson | Guidant Corporation | Guidant Corporation.
20060088 | Starwood Global Opportunity Fund VII-A, L.P. | David R. McCoy and Roma B. McCoy | Mammoth Mountain Ski Area.
Transactions Granted Early Termination—11/04/2005
20060091 | John C. Smith, Jr. | Energy Coal Resources, Inc. | Energy Coal Resources, Inc.
20060099 | General Electric Company | IDX Systems Corporation | IDX Systems Corporation.
20060109 | Tom L. Ward | Chesapeake Energy Corporation | Chesapeake Energy Corporation.
20060114 | KRG Capital Fund III, L.P. | ATI Holdings, LLC | ATI Holdings, LLC.
20060121 | Madison Dearborn Capital Partners IV, L.P. | Reliant Energy, Inc. | Astoria Generating Company, L.P., Orion Power Operating Services Astoria, Inc.
20060122 | livedoor Co., Ltd. | Howie Balter | Innovation Interactive LLC.
20060124 | CHS Inc. | Britz, Inc. | Britz Fertilizers, Inc.
20060125 | Land O'Lakes, Inc. | Britz, Inc. | Britz Fertilizers, Inc.
20060128 | Sun Capital Partners IV, L.P. | ShopKo Stores, Inc. | ShopKo Stores, Inc.
20060133 | Eagle 1 Limited | ERM Holdings Limited | ERM Holdings Limited.
20060134 | O. Bruton Smith | Robert Rosenthal | RRR II, LLC, RRR, LLC.
Transactions Granted Early Termination—11/07/2005
20060117 | Financiere Foret S.A. | Sydsvenska Kemi AB | Sydsvenska Kemi AB.
Transactions Granted Early Termination—11/08/2005
20060070 | Ralcorp Holdings, Inc. | Michael G. Campbell | 421335 British Columbia Ltd.
20060071 | Ralcorp Holdings, Inc. | Ole Elmer | 421336 British Columbia Ltd.
20060113 | Madison Dearborn Capital Partners IV, L.P. | Wm. Bolthouse Farms, Inc. | Wm. Bolthouse Farms, Inc.
20060139 | GS Capital Partners V, L.P. | Triad Hospitals, Inc. | Gulf Coast Hospital, L.P., Medical Park Hospital, LLC, Pampa Hospital, L.P.
Transactions Granted Early Termination—11/09/2005
20060037 | GMO Forestry Fund 8-B, L.P. | Cascade Timberlands LLC | Cascade Timberlands (Olympic), LLC.
20060116 | Hunting PLC | Gammaloy Holdings, L.P. | Gammaloy Holdings, L.P.
Transactions Granted Early Termination—11/10/2005
20060069 | Deutsche Post AG | Exel plc | Exel plc.
20060112 | NRG Energy, Inc. | Texas Genco LLC | Texas Genco LLC.
Transactions Granted Early Termination—11/14/2005
20060130 | The Scotts Miracle-Gro Company | Gutwein & Co., Inc. | Gutwein & Co., Inc.
20060131 | Genstar Capital Partners IV, L.P. | Hal P. Harlan 2004 GRAT II | Harlan BioProducts for Science, Inc., Harlan Sprague Dawley, Inc.
20060136 | Infocrossing, Inc. | Level 3 Communications, Inc. | (i)Structure, LLC.
20060138 | Tarnsportation Resource Partners, L.P. | The Bekins Company | Bekins Worldwide Services, Inc., The Bekins Co. II LLC, The Bekins Company.
20060141 | The PNC Financial Services Group, Inc. | First Data Corporation | PNC Merchant Services Company.
20060146 | Blackstone Capital Partners IV, L.P. | UICI | UICI.
20060148 | GS Capital Partners V, L.P. | UICI | UICI.
20060150 | Credit Suisse Group | UICI | UICI.
20060158 | TSG4 L.P. | Nicholas V. Perricone, M.D. | Clinical Creations International, Inc., N.V. Perricone, M.D., Limited.
20060165 | M&F Worldwide Corp. | Honeywell International Inc. | Novar USA Inc.
Transactions Granted Early Termination—11/15/2005
20060142 | Sports Capital Partners CEV, LLC | R. Greg Blair | Escort Holdings Corp.
20060145 | Sports Capital Partners CEV, LLC | American Capital Strategies, Ltd. | Escort Holdings Corp.
20060159 | Massimo Zanetti | Sara Lee Corporation | Quikava, Inc., Sara Lee International B.V., Saramar, LLC.
20060161 | Onex Partners LP | Heritage Fund II, L.P. | Skilled HealthCare Group, Inc.
20060166 | Leucadia National Corporation | Level 3 Communications, Inc. | Level 3 Communications, Inc.
20060167 | Level 3 Communications, Inc. | Leucadia National Corporation | WilTel Communications Group, LLC.
20060194 | Man Group plc | Refco Inc. | Refco Inc.
Transactions Granted Early Termination—11/16/2005
20051673 | Cargill, Inc. | RAG AG | Degussa Flavors & Fruit Systems do Brasil Ltda, Degussa Food Ingredients, GmbH, Degussa Food Ingredients US, LLC, Maxens GmbH.
20060080 | Symantec Corporation | BindView Development Corporation | BindView Development Corporation.
20060140 | Platinum Equity Capital Partners, L.P. | RAG AG | ESM Group, Inc.
Transactions Granted Early Termination—11/17/2005
20060090 | Handleman Company | Nima Taghavi | Crave Entertainment Group, Inc.
20060106 | Fountain Investments, LLC | Energy Coal Resources, Inc. | Energy Coal Resources, Inc.
Transactions Granted Early Termination—11/18/2005
20051050 | New York Stock Exchange, Inc. | Archipelago Holdings, Inc. | Archipelago Holdings, Inc.
20051051 | Archipelago Holdings, Inc. | New York Stock Exchange, Inc. | New York Exchange, Inc.
20051657 | Oracle Corporation | Siebel Systems, Inc. | Siebel Systems, Inc.
20051658 | Siebel Systems, Inc. | Oracle Corporation | Oracle Corporation.
20060010 | GlaxoSmithKline plc | ID Biomedical Corporation | ID Biomedical Corporation.
20060085 | Macquarie Industrial Investments Norway AS | DNH International S.a.r.l. | Dyno Nobel Holdings ASA.
20060093 | KKR Millennium Fund L.P. | KRG/CMS L.P. | Accellent Inc.
20060132 | Endeavour Capital Fund IV, L.P. | Tidewater Holdings, Inc. | Tidewater Holdings, Inc.
20060135 | Sentara Healthcare | Obici Health System, Inc. | Obici Health System, Inc.
20060152 | Romano Volta and Lucia Fantini | Littlejohn Fund II, L.P. | LJ Scanner Holdings, Inc.
20060153 | Sydney L. Small | Nassau Broadcasting Partners, L.P. | Nassau Broadcasting Partners, L.P.
20060156 | Harbert Distressed Investment Offshore Fund, Ltd. | MS Jewelers Limited Partnership | Friedman's Inc.
20060157 | Charlesbank Equity Fund VI, Limited Partnership | Masco Corporation | Zenith Products Corporation.
20060172 | Hushang Ansary | Stewart & Stevenson Services, Inc. | Stewart & Stevenson Services, Inc.
20060176 | Greenbriar Equity Fund, L.P. | James E. Coles | Western Peterbilt Inc., Western Truck Parts & Equipment Company LLC.

FOR FURTHER INFORMATION CONTACT: Sandra M. Peay, Contact Representative or Renee Hallman, Contact Representative.

Federal Trade Commission, Premerger Notification Office, Bureau of Competition, Room H-303, Washington, DC 20580, (202) 326-3100.

By direction of the Commission.
Donald S. Clark,
Secretary.

[FR Doc. 05-23498 Filed 11-29-05; 8:45 am]

BILLING CODE 6750-01-M